DEPARTMENT OF DEFENSE

Department of the Air Force

[Docket ID: USAF-2025-HQ-0069]

Proposed Collection; Comment Request

AGENCY: Department of the Air Force, Department of Defense (DoD).

ACTION: 60-Day information collection notice.

SUMMARY: In compliance with the Paperwork Reduction Act of 1995, Headquarters, Air Force Junior Reserve Officer Training Corps (AFJROTC), announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 26, 2026.

ADDRESSES: You may submit comments, identified by docket number and title, by any of the following methods:

Federal eRulemaking Portal: http://www.regulations.gov. Follow the instructions for submitting comments.

Mail: Department of Defense, Privacy, Civil Liberties, and Transparency Directorate, Office of the Director, Administration & Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to HQ AFJROTC, 60 W Maxwell Blvd., Maxwell AFB, AL 36112; or call 334-953-1178, ATTN: Ms. Tammy Perry.

SUPPLEMENTARY INFORMATION:

Title; Associated Form; and OMB Number: Application for Establishment of Air Force Junior ROTC Unit; AFJROTC Form 59; OMB Control Number 0701-0114.

Needs and Uses: This AFJROTC Form 59 is used to collect data pertinent to determining the applicability and feasibility of a high school (private or public) to be selected as a potential location for a future Air Force JROTC program. Respondents are officials who represent their school and provide the information necessary for AFJROTC to make a determination.

Affected Public: State, Local or Tribal Government; Businesses or other for-profit; Not-for-profit Institutions.

Annual Burden Hours: 12.5.

Number of Respondents: 25.

Responses per Respondent: 1.

Annual Responses: 25.

Average Burden per Response: 30 minutes.

Frequency: On occasion.

Dated: November 21, 2025.
Stephanie J. Bost,
Alternate OSD Federal Register Liaison Officer, Department of Defense.

[FR Doc. 2025-21165 Filed 11-25-25; 8:45 am]

BILLING CODE 3911-44-P